DEPARTMENT OF COMMERCE

National Oceanic and Atmospheric Administration

Proposed Information Collection; Comment Request; Oral History Project: Preserving Research and Cultural Heritage for NOAA's Cooperative Oxford Laboratory

AGENCY: National Oceanic and Atmospheric Administration (NOAA), Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 22, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Please direct requests for additional information to Theresa L. Goedeke, (301) 713-3020 or Theresa.Goedeke@noaa.gov.

SUPPLEMENTARY INFORMATION:

I. Abstract

The Cooperative Oxford Laboratory (COL) in Oxford, Maryland was established in 1960 and has operated under a cooperative agreement between NOAA and the Maryland Department of Natural Resources (MDNR) for the last 12 years. Research conducted by COL scientists has supported efforts to sustain historic fisheries along the Atlantic coast of the United States for nearly 50 years. As COL's 50th anniversary approaches, staff at the National Centers of Coastal Ocean Science will undertake a cultural history project to document and preserve the rich and unique history of the COL, its importance to the local seafood industry, and the cultural memory of the “oyster years.” In addition to collecting historical documents, photographs and artifacts, the researchers will conduct 25 to 30 videotaped oral history interviews with key members from the local community who have historic knowledge of COL and local, coastal resources. This includes scientists, resource managers, watermen, business owners, and knowledgeable members of the general community. The goal of the oral history project is to collect stories about the successes and challenges related to preserving the local seafood industry, and to document the rich history and local heritage tied to the COL. These videotaped oral histories will be archived with local, regional, and national organizations. In addition, the researchers will edit clips from the interviews to create short documentaries, which will be made available to local, regional, and national museums and other entities.

II. Method of Collection

Researchers will conduct videotaped, unstructured oral history interviews.

III. Data

OMB Control Number: None.

Form Number: None.

Type of Review: Regular submission.

Affected Public: Individuals or households.

Estimated Number of Respondents: 30 (for the entire project).

Estimated Time per Response: 1 hour.

Estimated Total Annual Burden Hours: 30 hours.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 17, 2009.
Gwellnar Banks,
Management Analyst, Office of the Chief Information Officer.

[FR Doc. E9-9281 Filed 4-22-09; 8:45 am]

BILLING CODE 3510-JE-P